DEPARTMENT OF DEFENSE

Department of the Army, U.S. Army Corps of Engineers

DEPARTMENT OF THE INTERIOR

Bureau of Reclamation

Notice of Availability of the Draft Environmental Impact Statement for the Lower Yellowstone Intake Diversion Dam Fish Passage Project, Dawson County, Montana

AGENCIES: Department of the Army, U.S. Army Corps of Engineers, DoD; Bureau of Reclamation, Interior.

ACTION: Notice.

SUMMARY: The U.S. Army Corps of Engineers (Corps) and Reclamation, as joint lead agencies, have made available for public review and comment the Lower Yellowstone Intake Diversion Dam Fish Passage Project Draft Environmental Impact Statement (Draft EIS). The Draft EIS analyzes and discloses potential effects associated with the proposed Federal action to improve passage for endangered pallid sturgeon and other native fish at Intake Diversion Dam in the lower Yellowstone River while continuing the effective and viable operation of the Lower Yellowstone Project.

DATES: Submit written comments on the Draft EIS on or before July 18, 2016.

Two public meetings to share information and for the public to provide oral or written comments will be held on:

• Tuesday, June 28, 2016, 5:30 p.m. to 9:00 p.m., in Sidney, MT and

• Wednesday, June 29, 2016, 5:30 p.m. to 9:00 p.m., in Glendive, MT.

Each meeting will begin with an open house at 5:30 p.m. followed by a formal presentation at 6:00 p.m.

ADDRESSES: Send written comments, requests to be added to the mailing list, or requests for sign language interpretation for the hearing impaired or other special assistance needs to U.S. Army Corps of Engineers Omaha District, ATTN: CENWO-PM-AA, 1616 Capitol Ave, Omaha, NE 68102; or email to cenwo-planning@usace.army.mil.

The public meetings will be held at the following locations:

• Richland County Fair Event Center, 5th Street SW., Sidney, MT.

• Dawson County High School Auditorium, 900 N. Merrill Ave., Glendive, MT.

FOR FURTHER INFORMATION CONTACT: Ms. Tiffany Vanosdall, U.S. Army Corps of Engineers, 1616 Capitol Ave, Omaha, NE 68102, or tiffany.k.vanosdall@usace.army.mil.

SUPPLEMENTARY INFORMATION: The Corps and Reclamation are issuing this notice pursuant to section 102(2)(c) of the National Environmental Policy Act of 1969 (NEPA), as amended, 42 U.S.C. 4321 et seq.; the Council on Environmental Quality's (CEQ) regulations for implementing the procedural provisions of NEPA, 43 CFR parts 1500 through 1508; the Department of the Interior's NEPA regulations, 43 CFR part 46.

Background Information. Reclamation's Lower Yellowstone Project is located in eastern Montana and western North Dakota. Intake Diversion Dam is located approximately 70 miles upstream of the confluence of the Yellowstone and Missouri rivers near Glendive, Montana. The Lower Yellowstone Project was authorized by the Secretary of the Interior on May 10, 1904. Construction of the Lower Yellowstone Project began in 1905 and included Intake Diversion Dam (also known as Yellowstone River Diversion Dam)—a wood and stone diversion dam that spans the Yellowstone River and diverts water into the Main Canal for irrigation. The Lower Yellowstone Project was authorized to provide a dependable water supply sufficient to irrigate approximately 54,000 acres of land on the benches above the west bank of the Yellowstone River. Water is also supplied to irrigate approximately 830 acres in the Intake Irrigation Project and 2,200 acres in the Savage Unit. The average annual volume of water diverted for these projects is 327,046 acre-feet.

The U.S. Fish and Wildlife Service (Service) listed the pallid sturgeon as endangered under the Endangered Species Act (ESA) in 1990. The best available science suggests Intake Diversion Dam impedes upstream migration of pallid sturgeon and their access to spawning and larval drift habitats. The lower Yellowstone River is considered by the Service to provide one of the best opportunities for recovery of pallid sturgeon.

Section 7(a)(2) requires each Federal agency to consult on any action authorized, funded, or carried out by the agency to ensure it does not jeopardize the continued existence of any endangered or threatened species. Reclamation has been in formal consultation with the Service to identify potential conservation measures to minimize adverse effects to pallid sturgeon associated with continued operation of the Lower Yellowstone Project. The Pallid Sturgeon Recovery Plan specifically identifies providing passage at Intake Diversion Dam to protect and restore pallid sturgeon populations. By providing passage at Intake Diversion Dam, approximately 165 river miles of spawning and larval drift habitat would become accessible in the Yellowstone River.

Section 3109 of the 2007 Water Resources Development Act authorizes the Corps to use funding from the Missouri River Recovery and Mitigation Program to assist Reclamation in the design and construction of Reclamation's Lower Yellowstone Project at Intake, Montana for the purpose of ecosystem restoration. Planning and construction of the Intake Project is a Reasonable and Prudent Alternative for the Corps in the 2003 Missouri River Amended Biological Opinion as amended by letter exchange in 2009, 2010, and 2013. The Reclamation Act/Newlands Act of 1902 (Pub. L. 161) authorizes Reclamation to construct and maintain the facilities associated with the Lower Yellowstone Project, which includes actions or modifications necessary to comply with Federal law such as the ESA.

This notice announces the availability of the Draft EIS for the Lower Yellowstone Intake Diversion Dam Fish Passage Project and begins a 45-day public comment period on the range of alternatives and effects analysis. Analysis in the Draft EIS will support a decision on the selection of an alternative. Current and past project information and analyses can be accessed at: www.usbr.gov/gp/mtao/loweryellowstone.

The Corps and Reclamation are serving as joint lead Federal agencies for the NEPA analysis process and preparation of the Draft EIS. The Corps is the administrative lead for NEPA compliance activities during the preparation of the Draft EIS. State, Federal, and local agencies with specialized expertise or jurisdictional responsibilities are participating as cooperating agencies. Cooperating agencies include the U.S. Fish and Wildlife Service; Western Area Power Administration; Montana Fish, Wildlife and Parks; Montana Department of Natural Resources and Conservation; and the Lower Yellowstone Irrigation Project.

The purpose of the Lower Yellowstone Intake Diversion Dam Fish Passage Project is to improve passage for the endangered pallid sturgeon while continuing the effective and viable operation of the Lower Yellowstone Project. The Draft EIS analyzes six alternatives which includes a No Action Alternative.

The No Action Alternative would continue the ongoing operations, maintenance, and rehabilitation of the Lower Yellowstone Project including diversion up to 1,374 cubic feet per second (cfs) of water through the screened headworks; rocking of the weir as needed to continue diversions during low flow periods; routine maintenance of the headworks, weir, and irrigation distribution facilities and pumps; rehabilitation of the trolley; and associated activities to comply with state and Federal law.

The Rock Ramp Alternative includes abandonment of the existing weir; construction of a new concrete weir and shallow sloped rock ramp to improve instream fish passage; maintenance of the new weir and rock ramp, continued diversion up to 1,374 cfs through the screened headworks; and continued operation and maintenance of the irrigation distribution facilities and pumps.

The Bypass Channel Alternative (Preferred Alternative) includes abandonment of the existing weir; construction of a new concrete weir; construction, operation, and maintenance of a two-mile long bypass channel for fish passage around the weir; placement of fill in the upstream portion of existing side channel for stabilization; continued diversion up to 1,374 cfs through the screened headworks; and continued operation and maintenance of the irrigation distribution facilities and pumps.

The Modified Side Channel Alternative includes operation, maintenance, and rehabilitation of the existing weir and trolley; construction, operation, and maintenance of a 4.5-mile long bypass channel created by modifying the existing high-flow channel for fish passage around the weir; continued diversion up to 1,374 cfs through the screened headworks; construction, operation, and maintenance of an access bridge spanning the high-flow bypass channel; and continued operation and maintenance of the irrigation distribution facilities and pumps.

The Multiple Pump Alternative includes the construction, operation, and maintenance of 5 screened surface pumping stations; removal of the existing weir; improved power infrastructure to increase capacity; land acquisition as necessary for power infrastructure and pump stations; continued diversion up to 1,374 cfs through the screened headworks; and continued operation and maintenance of the irrigation distribution facilities and existing pumps.

The Multiple Pumps with Conservation Measures Alternative includes the construction, operation, and maintenance of seven pumping stations each with six Ranney Wells (total of 42 Ranney Wells); removal of the existing weir; construction, operation, and maintenance of wind turbines and infrastructure to provide power to pumping stations; land acquisition as necessary for power infrastructure and pump stations; diversion up to 608 cfs through the screened headworks or by pumping depending upon river flow; reconstruction of the Main Canal; installation of water conservation measures such as conversion of flood irrigation to sprinkler, lining canals, and piping laterals; and continued operation and maintenance of the irrigation distribution facilities and existing pumps.

The Draft EIS evaluates the potential effects on the human environmental associated with each of the alternatives. Issues addressed include: Land use and vegetation; social and economic conditions; recreation; visual resources; water resources; air quality; climate change; biological resources; cultural resources; geomorphology; utilities and infrastructure; noise; Indian trust assets; and environmental justice.

Schedule. A 45-day public comment period will begin June 3, 2016. Comments on the Draft EIS must be received by July 18, 2016. The Corps and Reclamation will consider and respond to all comments received on the Draft EIS when preparing the Final EIS. The Corps and Reclamation expect to issue the Final EIS in fall 2016, at which time a Notice of Availability will be published in the Federal Register. A Record of Decision is expected in winter 2016.

The public meeting date or location may change based on inclement weather or exceptional circumstances. If the meeting date or location is changed, the Corps and Reclamation will issue a press release and post it on the web at www.usbr.gov/gp/mtao/loweryellowstone to announce the updated meeting details.

Special Assistance for Public Meeting. The meeting facility is physically accessible to people with disabilities. People needing special assistance to attend and/or participate in the meeting should contact: U.S. Army Corp of Engineers Omaha District, ATTN: CENWO-PM-AA, 1616 Capitol Ave, Omaha, NE 68102; or email to cenwo-planning@usace.army.mil. To allow sufficient time to process special requests, please contact no later than one week before the public meeting.

Public Disclosure Statement. If you wish to comment, you may mail or email your comments as indicated under the ADDRESSES section of this notice. Before including your address, phone number, email address, or any other personal identifying information in your comment, you should be aware that your entire comment—including your personal identifying information—may be made available to the public at any time. While you can request in your comment for us to withhold your personal identifying information from public review, we cannot guarantee that we will be able to do so.

Arlo J. Reese,
Major, Corps of Engineers, Deputy District Commander.
John F. Soucy,
Deputy Regional Director, Great Plains Region, Bureau of Reclamation.

[FR Doc. 2016-13079 Filed 6-2-16; 8:45 am]

BILLING CODE 3720-58-P